DEPARTMENT OF TRANSPORTATION

Federal Aviation Administration

[Summary Notice No. PE-2001-73]

Petitions for Exemption; Summary of Petitions Received

AGENCY: Federal Aviation Administration (FAA), DOT.

ACTION: Notice of petitions for exemption received.

SUMMARY: Pursuant to FAA's rulemaking provisions governing the application processing, and disposition of petitions for exemption part 11 of title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 15, 2001.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9:00 a.m. and 5:00 p.m., Monday through Friday, except Federal holidays. The Dockets Office (telephone 1-800-647-5527) is on the plaza level of the NASSIF Building at the Department of Transportation at the above address. Also, you may review public dockets on the Internet at hhtp://dms.dot.gov.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, D.C., on September 18, 2001.
Richard McCurdy,
Acting, Assistant Chief Counsel for Regulations.

Petitions for Exemption

Docket No.: FAA-2001-1004.

Petitioner: America West Airlines, Inc.

Section of 14 CFR Affected: 14 CFR 93.123.

Description of Relief Sought: To permit America West to operate four flights (two arrivals and two departures) at Ronald Regan Washington National Airport.

Docket No.: FAA-2001-9501.

Petitioner: U.S. Air Force.

Section of 14 CFR Affected: 14 CFR 91.209(a)(1) and (b).

Description of Relight Sought: To permit the USAF to conduct certain night flight military training operations in various aircraft without lighted aircraft position lights.

Docket No.: FAA-2001-9225.

Petitioner: Astral Aviation, Inc. dba Skyway Airlines.

Section of 14 CFR Affected: 14 CFR part 121.

Description of Relight Sought: To permit Astral to conduct all pilot in command and second in command training and checking for the Fairchild Dornier 328-300 jet airplane in a Level C simulator.

[FR Doc. 01-23773 Filed 9-21-01; 8:45 am]

BILLING CODE 4910-13-M